ENVIRONMENTAL PROTECTION AGENCY

[FRL-7403-3]

Agency Information Collection Activities: Submission for OMB Review; Comment Request, Reporting Requirements Under EPA's Voluntary Aluminum Industrial Partnership

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: Reporting Requirements under EPA's Voluntary Aluminum Industrial Partnership. OMB Control Number 2060-0411, expiration date 10/31/02. The ICR describes the nature of the information collection and its expected burden and cost; where appropriate, it includes the actual data collection instrument.

DATES: Comments must be submitted on or before December 2, 2002.

ADDRESSES: Send comments, referencing EPA ICR No. 1867.02 and OMB Control No. 2060-0411, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at Auby.Susan@epamail.epa.gov or download off the Internet at http://www.epa.gov/icr and refer to EPA ICR No. 1867.02. For technical questions about the ICR contact Jerome Blackman at (202) 564-8995; email at Blackman.jerome@epa.gov.

SUPPLEMENTARY INFORMATION: Title: Reporting Requirements under EPA's Voluntary Aluminum Industrial Partnership, OMB Control Number 2060-0411, EPA ICR Number 1867.02, expiration date 10/31/02. This is a request for extension of a currently approved collection.

Abstract: EPA's Voluntary Aluminum Industrial Partnership (VAIP) was initiated in 1995 and is an important voluntary program contributing to the overall reduction in emissions of greenhouse gases. This program focuses on reducing per fluorocarbon (PFC) emission from the production of primary aluminum. Eight of the nine U.S. producers of primary aluminum participate in this program. PFCs are very potent greenhouse gases with global warming potentials several thousand times that of carbon dioxide and they persist in the atmosphere for thousands of years. EPA has developed this ICR to renew authorization to collect information from companies in the VAIP. Participants voluntarily agree to the following: designating a VAIP liaison; undertaking technically feasible and cost-effective actions to reduce PFC emissions; and reporting to EPA, on an annual basis, the PFC emissions or production parameters used to estimate emissions. The information contained in the annual reports of VAIP members is used by EPA to assess the success of the program in achieving its goals. The information contained in the annual reports may be considered confidential business information and is maintained as such.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on August 12, 2002. No comments were received.

Burden Statement: The annual track reporting and recordkeeping burden for this collection of information is estimated to be roughly 73 hours per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

• Estimated Number of Respondents: 8.

• Frequency of Response: Annually.

• Estimated Total Annual Hour Burden: 584.

• Estimated Total Annualized Capital, O& M Cost Burden: $0.

Send comments on the Agency's need for this information, the accuracy of the provided burden estimates, and any suggested methods for minimizing respondent burden, including through the use of automated collection techniques to the addresses listed above. Please refer to EPA ICR No. 1867.02 and OMB Control No. 2060-0411 in any correspondence.

Dated: October 24, 2002.
Doreen Sterling,
Acting Director, Collection Strategies Division.

[FR Doc. 02-27836 Filed 10-31-02; 8:45 am]

BILLING CODE 6560-50-P